DEPARTMENT OF ENERGY

Federal Energy Regulatory Commission

[Docket No. RP01-485-000]

Kinder Morgan Interstate Gas Transmission LLC; Notice of Waiver Request

July 19, 2001.

Take notice that on July 11, 2001 Kinder Morgan Interstate Gas Transmission LLC (KMIGT) filed a request for a one-time waiver of certain notice and timing requirements of Section 18 of its FERC Gas Tariff, Volume No. I-B, relating to the Right of First Refusal process with respect to three transportation paths under a contract with Oneok Energy Marketing & Trading that expire on August 31, 2001 and September 30, 2001.

KMIGT requests that it be allowed (1) waiver of the pre-posting notice requirements, (2) to use an iterative bidding process limited to one or two rounds, if necessary, and to shorten the times established for activities in that process, and (3) to shorten the required time frame between the end of the bidding process and contract expiration from 45 days to no less than 28 days.

KMIGT states that copies of the filing have been served upon mainline transportation and storage shippers and affected state regulatory bodies.

Any person desiring to protest said filing should file a protest with the Federal Energy Regulatory Commission, 888 First Street, NE., Washington, DC 20426, in accordance with Section 385.211 of the Commission's Rules and Regulations. All such protests must be filed on or before July 26, 2001. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-18506 Filed 7-24-01; 8:45 am]

BILLING CODE 6717-01-P